ENVIRONMENTAL PROTECTION AGENCY

40 CFR Part 52

[EPA-R09-OAR-2011-0537; FRL-9457-6]

California State Implementation Plan, South Coast Air Quality Management District; Withdrawal of Direct Final Rule

AGENCY: Environmental Protection Agency (EPA).

ACTION: Withdrawal of direct final rule.

SUMMARY: On July 15, 2011 (76 FR 41717), EPA published a direct final approval of a revision to the California State Implementation Plan (SIP). This revision concerned South Coast Air Quality Management District (SCAQMD) Rule 1143, Consumer Paint Thinner & Multi-Purpose Solvents and Rule 1144, Metal Working Fluids & Direct-Contact Lubricants. The direct final action was published without prior proposal because EPA anticipated no adverse comment. The direct final rule stated that if adverse comments were received by August 15, 2011, EPA would publish a timely withdrawal in the Federal Register. EPA received timely adverse comments. Consequently, with this revision we are withdrawing the direct final approval of SCAQMD Rules 1143 and 1144. EPA will either address the comments in a subsequent final action based on the parallel proposal also published on July 15, 2011 (76 FR 41745), or repropose an alternative action. As stated in the parallel proposal, EPA will not institute a second comment period on a subsequent final action. Accordingly, the amendment to 40 CFR 52.220 published in the Federal Register on July 15, 2011, (76 FR 41717) which was to become effective on September 13, 2011 is withdrawn.

DATES: Effective Date: The amendment to 40 CFR 52.220 which published at 76 FR 41717 on July 15, 2011 is withdrawn as of September 1, 2011.

ADDRESSES: EPA has established docket number EPA-R09-OAR-2011-0537 for this action. Generally, documents in the docket for this action are available electronically at http://www.regulations.gov and in hard copy at EPA Region IX, 75 Hawthorne Street, San Francisco, California. While all documents in the docket are listed at http://www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: Adrianne Borgia, EPA Region IX, (415) 97-3576, Borgia.adrianne@epa.gov.

List of Subjects in 40 CFR Part 52

Environmental protection, Air pollution control, Incorporation by reference, Reporting and recordkeeping requirements, Volatile organic compounds.

Dated: August 19, 2011.
Jared Blumenfeld,
Regional Administrator, Region IX.

Accordingly, the amendment to 40 CFR 52.220 published in the Federal Register on July 15, 2011, (76 FR 41717) is withdrawn as of September 1, 2011.

[FR Doc. 2011-22289 Filed 8-31-11; 8:45 am]

BILLING CODE 6560-50-P